DEPARTMENT OF THE INTERIOR

National Park Service

[NPS-WASO-NAGPRA-NPS0037555; PPWOCRADN0-PCU00RP14.R50000]

Notice of Inventory Completion: Longyear Museum of Anthropology, Colgate University, Hamilton, NY

AGENCY: National Park Service, Interior.

ACTION: Notice.

SUMMARY: In accordance with the Native American Graves Protection and Repatriation Act (NAGPRA), the Longyear Museum of Anthropology (LMA), Colgate University, has completed an inventory of human remains and has determined that there is a cultural affiliation between the human remains and Indian Tribes or Native Hawaiian organizations in this notice.

DATES: Repatriation of the human remains in this notice may occur on or after April 8, 2024.

ADDRESSES: Kelsey Olney-Wall, Repatriation Manager, Longyear Museum of Anthropology, Colgate University, 13 Oak Drive, Hamilton, NY 13346, telephone (315) 228-7677, email kolneywall@colgate.edu.

SUPPLEMENTARY INFORMATION: This notice is published as part of the National Park Service's administrative responsibilities under NAGPRA. The determinations in this notice are the sole responsibility of the LMA. The National Park Service is not responsible for the determinations in this notice. Additional information on the determinations in this notice, including the results of consultation, can be found in the inventory or related records held by the LMA.

Description

The preponderance of evidence suggests that human remains representing, at minimum, seven individuals were removed from Madison County, NY, sometime between 1960-1969. The human remains were removed from an unknown site by avocational archeologist Theodore Whitney. Mr. Whitney donated the human remains in the early 1970s to the Longyear Museum of Anthropology. No associated funerary belongings are present.

It was previously reported in a Notice of Inventory Completion (68 FR 67209, December 1, 2003) that Mr. Whitney donated the human remains in 1980, however, the LMA staff determined these human remains were a part of the donation from the early 1970s, with a reference in an Annual report from the Sociology and Anthropology Department at Colgate University. At minimum, one individual with similar catalog numbers was identified as being removed from the Thurston Site by Theodore Whitney and subsequently repatriated to the Oneida Indian Nation in 1995. The LMA established the seven individuals are connected to the human remains that were repatriated to Oneida Indian Nation in 1995.

Cultural affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological information, geographical information, historical information, and expert opinion.

Determinations

Pursuant to NAGPRA and its implementing regulations, and after consultation with the appropriate Indian Tribes and Native Hawaiian organizations, the LMA has determined that:

• The human remains described in this notice represent the physical remains of seven individuals of Native American ancestry.

• There is a relationship of shared group identity that can be reasonably traced between the human remains described in this notice and the Oneida Indian Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after April 8, 2024. If competing requests for repatriation are received, the LMA must determine the most appropriate requestor prior to repatriation. Requests for joint repatriation of the human remains are considered a single request and not competing requests. The LMA is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 29, 2024.
Melanie O'Brien,
Manager, National NAGPRA Program.

[FR Doc. 2024-04981 Filed 3-7-24; 8:45 am]

BILLING CODE 4312-52-P